DEPARTMENT OF COMMERCE

National Oceanic and Atmospheric Administration

RIN 0648-XE645

Marine Fisheries Advisory Committee

AGENCY: National Marine Fisheries Service (NMFS), National Oceanic and Atmospheric Administration (NOAA), Commerce.

ACTION: Notice of open public meetings.

SUMMARY: This notice sets forth the schedule and proposed agenda of a forthcoming meeting of the Marine Fisheries Advisory Committee (MAFAC). The members will discuss and provide advice on the NOAA Fisheries Draft National Bycatch Reduction Strategy.

DATES: The meeting is scheduled for June 1, 2016, 4-5 p.m., Eastern Daylight Time.

ADDRESSES: Public access is available at 1315 East-West Highway, Silver Spring, MD 20910.

FOR FURTHER INFORMATION CONTACT: Any member of the public wishing to attend may contact Heidi Lovett, (301) 427-8034; email: heidi.lovett@noaa.gov.

SUPPLEMENTARY INFORMATION: The MAFAC was established by the Secretary of Commerce (Secretary), and, since 1971, advises the Secretary on all living marine resource matters that are the responsibility of the Department of Commerce. The charter and other information are located online at http://www.nmfs.noaa.gov/ocs/mafac/.

Matters To Be Considered

The Committee is convening to discuss and finalize comments and recommendations on the NOAA Fisheries Draft National Bycatch Reduction Strategy for submission to the NOAA Fisheries Assistant Administrator. Other administrative matters may be considered. This date, time, and agenda are subject to change.

Time and Date

The meeting is scheduled for June 1, 2016, 4-5 p.m., Eastern Daylight Time by conference call. Conference call information for the public will be posted at http://www.nmfs.noaa.gov/ocs/mafac/ by May 27, 2016.

Pursuant to 41 CFR 102-3.150(b), this Federal Register notice for this meeting is being published fewer than 15 calendar days prior to the meeting as exceptional circumstances exist. It is imperative that the meeting be held to accommodate the scheduling priorities of MAFAC members who must meet a strict schedule to finalize and submit comments before the June 3, 2016, public comment period deadline on the draft National Bycatch Reduction Strategy. Notice of the meeting is also posted on MAFAC's Web site at: http://www.nmfs.noaa.gov/ocs/mafac/.

Special Accommodations

These meetings are physically accessible to people with disabilities. Requests for sign language interpretation or other auxiliary aids should be directed to Heidi Lovett, 301-427-8034 by May 31, 2016.

Dated: May 23, 2016.
Samuel D. Rauch III,
Deputy Assistant Administrator for Regulatory Programs, National Marine Fisheries Service.

[FR Doc. 2016-12491 Filed 5-26-16; 8:45 am]

BILLING CODE 3510-22-P